Executive Order 14138 of January 3, 2025

Providing an Order of Succession Within the Office of Management and Budget

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Office of Management and Budget, in the order listed, shall act as and perform the functions and duties of the office of Director of the Office of Management and Budget (Director) during any period in which both the Director and the Deputy Director of the Office of Management and Budget have died, resigned, or otherwise become unable to perform the functions and duties of the office of Director:

(a) Deputy Director for Management;

(b) Executive Associate Director;

(c) Associate Director (National Security Programs);

(d) Associate Director (General Government Programs);

(e) Associate Director (Education, Income Maintenance, and Labor Programs);

(f) Associate Director (Health Programs);

(g) Associate Director (Climate, Energy, Environment, and Science Programs);

(h) General Counsel;

(i) Administrator for Federal Procurement Policy;

(j) Administrator of the Office of Information and Regulatory Affairs;

(k) Controller, Office of Federal Financial Management; and

(l) Administrator of the Office of Electronic Government.

Sec. 2. Exceptions. (a) No individual who is serving in an office listed in section 1(a)-(l) of this order in an acting capacity shall, by virtue of so serving, act as Director pursuant to this order.

(b) No individual who is serving in an office listed in section 1(a)-(l) of this order shall act as Director unless that individual is otherwise eligible to so serve under the Act.

(c) Notwithstanding the provisions of this order, the President retains discretion, to the extent permitted by law, to depart from this order in designating an acting Director.

Sec. 3. Revocation. Executive Order 13615 of May 21, 2012 (Providing an Order of Succession Within the Office of Management and Budget), is hereby revoked.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 3, 2025.

[FR Doc. 2025-00619

Filed 1-10-25; 8:45 am]

Billing code 3395-F4-P